DEPARTMENT OF COMMERCE

National Oceanic and Atmospheric Administration

[I.D. 072505A]

Nominations to the Marine Fisheries Advisory Committee (MAFAC)

AGENCY: National Marine Fisheries Service (NMFS), National Oceanic and Atmospheric Administration (NOAA), Commerce.

ACTION: Notice; request for nominations.

SUMMARY: The Marine Fisheries Advisory Committee (Committee) is the only Federal advisory committee with the responsibility to advise the Secretary of Commerce (Secretary) on all matters concerning living marine resources that are the responsibility of the Department of Commerce. The Committee makes recommendations to the Secretary to assist in the development and implementation of Departmental regulations, policies and programs critical to the mission and goals of the NMFS. Nominations are encouraged from all interested parties involved with or representing interests affected by NMFS actions in managing living marine resources. Nominees should possess demonstrable expertise in a field related to the management of living marine resources and be able to fulfill the time commitments required for two meetings annually. Individuals serve for a term of three years for no more than two consecutive terms if re-appointed. The NMFS anticipates selecting up to eight new members to serve during the 2006-2009 term.

DATES: Nominations must be postmarked on or before September 12, 2005.

ADDRESSES: Nominations should be sent to Laurel Bryant, Executive Director, MAFAC, Office of Constituent Services, NMFS, 1315 East-West Highway #9508, Silver Spring, MD 20910.

FOR FURTHER INFORMATION CONTACT: Laurel Bryant, MAFAC Executive Director; (301) 713-2379 x171; e-mail: Laurel.Bryant@noaa.gov.

SUPPLEMENTARY INFORMATION: The establishment of the Marine Fisheries Advisory Committee (MAFAC) was approved by the Secretary on December 28, 1970, and initially chartered under the Federal Advisory Committee Act, 5, U.S.C. App.2, on February 17, 1971. The Committee meets twice a year with supplementary subcommittee meetings as determined necessary by the Secretary. No less that 15 and no more than 21 individuals may serve on the Committee. Membership is comprised of highly qualified individuals representing commercial and recreational fisheries interests, environmental organizations, academic institutions, governmental, tribal and consumer groups from a balance of geographical regions, including the Hawaiian, Pacific and U.S. Virgin Islands.

A MAFAC member cannot be a Federal employee or a member of a Regional Fishery Management Council. Selected candidates must pass security checks and submit financial disclosure forms. Membership is voluntary, and except for reimbursable travel and related expenses, service is without pay.

Each submission should include the submitting person or organization's name and affiliation, a cover letter describing the nominee's qualifications and interest in serving on the Committee, a curriculum vitae and/or resume of the nominee, and no more than three supporting letters describing the nominee's qualifications and interest in serving on the Committee. Self-nominations are acceptable. The following contact information should accompany each nominee's submission: name, address, phone number, fax number, and e-mail address if available

Nominations should be sent to (see ADDRESSES) and nominations must be received by (see DATES). The full text of the Committee Charter and its current membership can be viewed at the NMFS's web page at www.nmfs.noaa.gov/mafac.htm.

Dated: July 26, 2005.
Gordon J. Helm
Acting Director, Office of Constituent Services, National Marine Fisheries Service.

[FR Doc. 05-15141 Filed 7-29-05; 8:45 am]

BILLING CODE 3510-22-S